FEDERAL COMMUNICATIONS COMMISSION

Public Information Collections Approved by the Office of Management and Budget (OMB)

AGENCY: Federal Communications Commission.

ACTION: Notice of public information collections approved by the Office of Management and Budget.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number.

FOR FURTHER INFORMATION CONTACT: For additional information, please contact Cathy Williams on (202) 418-2918 or via email to: cathy.williams@fcc.gov <mailto:cathy.williams@fcc.gov>.

SUPPLEMENTARY INFORMATION:

OMB Control Number: 3060-0357.

OMB Approval Date: February 9, 2011.

Expiration Date: February 28, 2014.

Title: Recognized Private Operating Agency (RPOA), Section 63.701.

Form Number: None.

Type of Review: Extension of a currently approved collection.

Respondents: Business or other for profit entities.

Number of Respondents/Responses: 10 respondents; 10 responses.

Estimated Hours per Response: 2-5 hours per response.

Total Annual Burden: 35 hours.

Total Annual Cost: $17,650.

Obligation to Respond: Voluntary. The statutory authority for this information collection is contained in Sections 4(i), 4(j), 201-205, 214 and 403 of the Communications Act of 1934, as amended, 47 U.S.C. 154(j), 201-25, 214 and 403.

Nature and Extent of Confidentiality: There is no need for confidentiality with this collection of information.

Needs and Uses: The Commission requests this collection of information to gather the information needed to recommend to the United States Department of State whether or not to designate persons requesting its Recognized Private Operating Agency (RPOA) status.

The United States does not require anyone to obtain RPOA status but has created a voluntary process by which companies that believe that it would be helpful in persuading foreign telecommunications operators to deal with them can obtain such a designation. RPOA status also permits companies to join the Telecommunications Sector of the International Telecommunications Union Formal (ITU), the standards-setting body of the ITU. Formal recognition of RPOA status is required by the ITU for companies desiring the ITU to grant them international free phone numbers. Without this information the government cannot represent to other nations that the United States enhanced-service providers will obey international regulations.

OMB Control Number: 3060-0454.

OMB Approval Date: June 22, 2011.

Expiration Date: June 30, 2014.

Title: Sections 43.51, 64.1001, 64.1002, Regulations of International Accounting Rates.

Form Number: None.

Type of Review: Extension of a currently approved collection.

Respondents: Business or other for profit entities.

Number of Respondents/Responses: 20 respondents; 20 responses.

Estimated Hours per Response: 1-5 hours per response.

Total Annual Burden: 205 hours.

Total Annual Cost: $3,000.

Obligation to Respond: Required to obtain or retain benefits. The Commission has authority for this information collection pursuant to Sections 1, 4(i)-4(j), 43, 63, 201-205, 214, 303(r), and 309 of the Communications Act of 1934, as amended, 47 U.S.C. 151, 154(i)-154(j), 201-205, 214, 303(r), and 309.

Nature and Extent of Confidentiality: There is no need for confidentiality with this collection of information.

Needs and Uses: The information is used by the Commission staff in carrying out its duties under the Communications Act of 1934, as amended. The information collections are necessary for the Commission to maintain effective oversight of U.S. carriers that are affiliated with or involved in certain co-marketing or similar arrangements with foreign carriers that have market power. Additionally, the information collection is necessary to analyze market trends to determine whether amendment of the Commission's existing rules or proposals of new rules are necessary to promote effective competition and prevent anti-competitive behavior between American and foreign carriers. If the collections are not conducted or are conducted less frequently, applicants will not obtain the authorizations necessary to provide telecommunications services, and the Commission will be unable to carry out its mandate under the Communications Act of 1934. Furthermore, the Commission would lack sufficient information to determine whether new or modified rules are necessary to combat anti-competitive behavior between American and foreign carriers.

OMB Control Number: 3060-0751.

OMB Approval Date: August 17, 2011.

Expiration Date: August 31, 2014.

Title: Contracts and Concessions, 47 CFR 43.51.

Form Number: None.

Type of Review: Extension of a currently approved collection.

Respondents: Business or other for profit entities.

Number of Respondents/Responses: 10 respondents; 40 responses.

Estimated Hours per Response: 6-8 hours per response.

Total Annual Burden: 300 hours.

Total Annual Cost: None.

Obligation to Respond: Required to obtain or retain benefits. The statutory authority for this information collection is contained in Sections 47 U.S.C. 154; Telecommunications Act of 1996, Public Law 1-4-104, Sections 402(b)(2)(B)(c), 110 Stat. 56 (1996) as amended unless otherwise noted. 47 U.S.C. 211, 219, 220 as amended.

Nature and Extent of Confidentiality: There is no need for confidentiality with this collection of information.

Needs and Uses: The Commission has determined that the authorized resale of international private lines interconnected to the U.S. public switched network (PSN) would tend to divert international message telephone service (IMTS) traffic from the settlements process and increase the U.S. net settlements deficit. The information will be used by the Commission in reviewing the impact, if any, that end-user private line interconnections have on our international settlements policy. The data will also enhance the ability of both the Commission and interested parties to monitor for unauthorized resale of international private lines that are interconnected to the U.S. PSN. The Commission's effort to preserve the integrity of its international resale policy would be thwarted if the collection were conducted less frequently.

OMB Control Number: 3060-0768.

OMB Approval Date: August 17, 2011.

Expiration Date: August 31, 2014.

Title: 28 GHz Band Segmentation Plan Amending the Commission's Rules to Redesignate the 27.5-29.5 GHz Frequency Band, to Reallocate the 29.5-30.0 GHz Frequency Band.

Form Number: None.

Type of Review: Extension of a currently approved collection.

Respondents: Business or other for profit entities.

Number of Respondents/Responses: 65 respondents; 65 responses.

Estimated Hours per Response: 2 hours per response.

Total Annual Burden: 130 hours.

Total Annual Cost: $18,150.

Obligation to Respond: Required to obtain or retain benefits. The statutory authority for this collection of information and third party disclosure requirements is contained in Sections 25.101 to 25.601 issued under Section 4, 48 Stat. 1066, as amended; 47 U.S.C. 154; Sections 101-104, 76 Stat. 416-427; 47 U.S.C. 701-744; and 47 U.S.C. 554. Statutory authority for Part 101 is contained in 47 U.S.C. 154, 303, unless otherwise noted.

Nature and Extent of Confidentiality: There is no need for confidentiality with this collection of information.

Needs and Uses: The information is used by the Commission and other applicants and/or licensees in the 28 GHz band to facilitate technical coordination of systems among applicants and/or licensees in the 28 GHz band. Without such information, the Commission could not implement the band plan as set forth in the First Report and Order and Fourth Notice of Proposed Rulemaking.

Affected applicants and licensees are required to provide the requested information to the Commission and other third parties whenever they seek authority to provide service in the 28 GHz band. The frequency of filing is, in general, determined by the applicant or licensees. If this information is compiled less frequently or not filed in conjunction with our rules, applicants and licensees will not obtain the authorization necessary to provide telecommunications services. Furthermore, the Commission would not be able to carry out its mandate as required by statute and applicants and licensees would not be able to provide service effectively.

OMB Control Number: 3060-0962.

OMB Approval Date: August 16, 2011.

Expiration Date: August 31, 2014.

Title: Redesignation of the 18 GHz Frequency Band, Blanket Licensing of Satellite Earth Stations in the Ka-band, and the Allocation of Additional Spectrum for Broadcast Satellite Service Use.

Form Number: None.

Type of Review: Extension of a currently approved collection.

Respondents: Business or other for profit entities.

Number of Respondents/Responses: 26 respondents; 29 responses.

Estimated Hours per Response: 1-4 hours per response.

Total Annual Burden: 35 hours.

Total Annual Cost: $147,350.

Obligation to Respond: Required to obtain or retain benefits. The Commission has authority for this collection of information pursuant to Sections 1, 4(i), 301, 303, 308, 309, and 310 of the Communications Act of 1934, as amended, 47 U.S.C. 51, 154(i), 301, 303, 308, 309, and 310.

Nature and Extent of Confidentiality: There is no need for confidentiality with this collection of information.

Needs and Uses: This information collection facilitates the Commission's efforts to use spectrum more efficiently and to better accommodate the operational needs of licensees.

In addition, the collection of this information is necessary for the Commission to determine whether licensees are complying with the rules applicable to satellite earth stations and to deploy new satellite systems. If the collection were not conducted, the Commission would not be able to verify whether Geostationary Satellite Orbit/Fixed Satellite Service (GSO/FSS) satellite earth stations in the Ka-band were operating in accordance with Commission rules. Additionally, spectrum would not be used most efficiently and would, therefore, result in hindering the provision of new or enhanced telecommunications services to the public.

OMB Control Number: 3060-1013.

OMB Approval Date: February 4, 2011.

Expiration Date: February 28, 2014.

Title: Mitigation of Orbital Debris.

Form Number: None.

Type of Review: Extension of a currently approved collection.

Respondents: Business or other for profit entities.

Number of Respondents/Responses: 53 respondents; 53 responses.

Estimated Hours per Response: 3 hours per response.

Total Annual Burden: 159 hours.

Total Annual Cost: $102,025.

Obligation to Respond: Required to obtain or retain benefits. Information collected during the Commission's authorization process will be used by Commission staff in carrying out the agency's duties concerning satellite communications, pursuant to Sections 1, 4(i), 301, 303, 308, 309 and 310 of the Communications Act, 47 U.S.C. 151, 154(i), 301, 303, 308, 309, and 310.

Nature and Extent of Confidentiality: There is no need for confidentiality with this collection of information.

Needs and Uses: The information collection requirements accounted for in this collection are necessary to mitigate the potential harmful effects of orbital debris accumulation. Disclosure of debris mitigation plans as part of requests for FCC authorization will help preserve the United States' continued affordable access to space, the continued provision of reliable U.S. space-based services, including communications and remote sensing satellite services, for U.S. commercial, government, and homeland security purposes as well as the continued safety of persons and property in space and on the surface of the Earth. Disclosure of debris mitigation plans will allow the Commission and potentially affected third parties to evaluate satellite operators' debris mitigation plans prior to the issuance of an FCC approval for communications activities in space. Disclosure may also aid in the wider dissemination of information concerning debris mitigation techniques and may provide a base-line of information that will aid in analyzing and refining those techniques.

Without disclosure of orbital debris mitigation plans as part of applications for FCC authority, the Commission would be denied any opportunity to ascertain whether satellite operators are in fact considering and adopting reasonable debris mitigation practices, which could result in an increase in orbital debris and a decrease in the utility of space for communications and other uses. Furthermore, the growth in the orbital debris population may limit the usefulness of space for communications and other uses in the future by raising the costs and lowering the reliability of space-based systems. Additionally, the effects of collisions involving orbital debris can be catastrophic and may cause significant damage to functional spacecraft or to persons or property on the surface of the Earth, if the debris re-enters the Earth's atmosphere in an uncontrolled manner.

OMB Control Number: 3060-1028.

OMB Approval Date: February 8, 2011.

Expiration Date: February 28, 2014.

Title: International Signaling Point Code (ISPC).

Form Number: None.

Type of Review: Extension of a currently approved collection.

Respondents: Business or other for profit entities.

Number of Respondents/Responses: 20 respondents; 20 responses.

Estimated Hours per Response: 20 minutes per response.

Total Annual Burden: 7 hours.

Total Annual Cost: None.

Obligation to Respond: Required to obtain or retain benefits. The statutory authority for this collection is contained in Sections 1, 4(i)-(j), 201-205, 211, 214, 219-220, 303(r), 309 and 403 of the Communications Act of 1934, as amended, 47 U.S.C. 151, 154(i)-(j), 201-205, 211, 214, 219-220, 303(r), and 403.

Nature and Extent of Confidentiality: There is no need for confidentiality with this collection of information.

Needs and Uses: The information collection requirements contained in this collection facilitate the Commission's assignment of unique ISPCs to international carriers for identification purposes. In addition, they enhance the ability of the international carriers to communicate with each other internationally through the shared signaling network. The Commission would not have a unique identification code (ISPC) to identify each international carrier if these collections of information were not conducted. Furthermore, the lack of ISPCs would hinder the international carriers' ability to identify other carriers and would likely result in delays in communication or miscommunication among international carriers on the shared signaling network.

OMB Control Number: 3060-1029.

OMB Approval Date: February 9, 2011.

Expiration Date: February 28, 2014.

Title: Data Network Identification Code (DNIC).

Form Number: None.

Type of Review: Extension of a currently approved collection.

Respondents: Business or other for profit entities.

Number of Respondents/Responses: 5 respondents; 5 responses.

Estimated Hours per Response: 15 minutes per response.

Total Annual Burden: 1 hour.

Total Annual Cost: None.

Obligation To Respond: Required to obtain or retain benefits. The statutory authority for this collection is contained in Sections 1, 4(i)-(j), 201-205, 211, 214, 219-220, 303(r), 309, and 403 of the Communications Act of 1934, as amended, 47 U.S.C. 151, 154(i)-(j), 201-205, 211, 214, 219-220, 303(r), 309 and 403.

Nature and Extent of Confidentiality: There is no need for confidentiality with this collection of information.

Needs and Uses: The Commission obtains relevant information from operators of public data networks through the filing of applications for Data Network Identification Codes (DNICs) on the Internet-based International Bureau Filing System (IBFS). This information is collected by the Commission to assign DNICs to operators of public data networks in order to identify and permit automated switching of data traffic to particular networks. The Commission's lack of an assignment of DNICs to operators of public data networks would result in technical problems that prevent the identification and automated switching of data traffic to particular networks.

OMB Control Number: 3060-1059.

OMB Approval Date: November 24, 2010.

Expiration Date: November 30, 2013.

Title: Global Mobile Personal Communications by Satellite (GMPCS)/E911 Call Centers.

Form Number: None.

Type of Review: Extension of a currently approved collection.

Respondents: Business or other for profit entities.

Number of Respondents/Responses: 25 respondents; 25 responses.

Estimated Hours per Response: 1 hour per response.

Total Annual Burden: 25 hours.

Total Annual Cost: $7,500.

Obligation To Respond: Required to obtain or retain benefits. The Commission has authority for this information collection pursuant to Sections 1, 4(i), 7, 10, 201, 202, 208, 214, 222(d)(4)(A)-(C), 222(f), 222(g), 222(h)(1)(A), 222(h)(4)-(5), 251(e)(3), 301, 303, 308 and 310 of the Communications Act of 1934, as amended; 47 U.S.C. 151, 154(i), 157, 160, 201, 202, 208, 214, 222(d)(4)(A)-(C), 222(f), 222(g), 222(h)(1)(A), 222(h)(4)-(5), 251(e)(3), 301, 303, 308 and 310.

Nature and Extent of Confidentiality: There is no need for confidentiality with this collection of information.

Needs and Uses: The information collections that result from the E911 Scope Second R&O, IB Docket No. 99-67 (FCC 04-201), are used by the Commission under its authority to license commercial satellite services in the United States. Without the collection of information that would result from these rules, the Commission would not be able to monitor the Mobile Satellite Service (MSS) carriers' establishment of call centers which are essential to provide emergency services, such as handling emergency 911 telephone calls from American citizens. The recordkeeping and reporting requirements include data on MSS call center use such as the aggregate number of calls that the call centers receive and the number of calls that required forwarding to a local Public Safety Answering Points (PSAP). The Commission will use this data to monitor compliance with the call center requirement and track usage trends. Such information would be useful to the Commission in considering whether FCC rules require modification to accommodate the changing market. The rules require that MSS carriers file a post-implementation report with the Commission annually.

Without the collection of information, the Commission would not be able to confirm the MSS carriers' compliance with the call center rules. Additionally, the agency would not have data on MSS call center use in order to determine whether the Commission should modify its rules to accommodate the current market.

OMB Control Number: 3060-1116.

OMB Approval Date: December 1, 2011.

Expiration Date: December 31, 2014.

Title: Submarine Cable Reporting.

Form Nos.: N/A.

Type of Review: Extension of a currently approved collection.

Respondents: Business or other for-profit.

Number of Respondents/Responses: 53 respondents; 53 responses.

Estimated Time per Response: 20-100 hours.

Obligation To Respond: Voluntary.

Total Annual Burden: 10,070 hours.

Total Annual Cost: N/A.

Nature and Extent of Confidentiality: Information provided pursuant to this request will be viewed as presumptively confidential upon submission because the information would reflect reports on weaknesses in or damage to national communications infrastructure, and the release of this sensitive information to the public could potentially facilitate terrorist targeting of critical infrastructure and key resources. The submissions also may contain internal confidential information that constitutes trade secrets and commercial/financial information that the respondent does not routinely make public and public release of the submitted information could cause competitive harm by revealing information about the types and deployment of cable equipment and the traffic that flows across the system.

Needs and Uses: The Commission is requesting that current submarine cable landing licensees voluntarily provide information regarding the system status and service restoration activities for the submarine cable systems and cable landing stations and information about the physical location, assets, and restoration plans for the submarine cable systems. This information is needed in order to support Federal government national security and emergency preparedness communications programs, for the purpose of providing situational awareness of submarine cable system performance as well as a greater understanding of potential physical threats to the submarine cable systems. The Commission has been working with the Assistant Director for National Security and Emergency Preparedness, at the Office of Science and Technology Policy (OSTP) on this collection on behalf of other Executive Branch agencies, at the direction of the President.

OMB Control No.: 3060-0106.

OMB Approval Date: October 28, 2011.

Expiration Date: October 31, 2014.

Title: Part 43 Reporting Requirements for U.S. Providers of International Telecommunications Services and Affiliates; 47 CFR 43.61.

Form No.: N/A.

Type of Review: Revision of a currently approved collection.

Respondents: Business or other for-profit entities.

Number of Responses/Respondents: 1,255 respondents and 1,255 responses.

Estimated Time per Response: 2 hours-220 hours.

Obligation To Respond: Required to obtain or retain benefits. The statutory authority for this collection of information is contained in Sections 1, 4(i), 4(j)11, 201-205, 211, 214, 219, 220, 303(r), 309, and 403 of the Communications Act of 1934, as amended, 47 U.S.C. 151, 161, 201, 205, 211, 214, 219, 220, 303(r), 309 and 403.

Total Annual Burden: 19,530 hours.

Total Annual Cost: $339,000.

Nature and Extent of Confidentiality: In general there is no need for confidentiality with this collection of information.

Needs and Uses: On May 12, 2011, the Federal Communications Commission adopted a First Report and Order and Further Notice of Proposed Rulemaking (FCC 11-76) in Reporting Requirements for U.S. Providers of International Telecommunications Services, Amendment of Part 43 of the Commission's Rules, IB Docket No. 04-112 (rel. May 13, 2011). In the First Report and Order portion of that document (First Report and Order), the Commission amended the international reporting requirements in Section 43.61 of the Commission's rules. The Commission retained the annual traffic and revenue report contained in Section 43.61(a) but eliminated the quarterly large carrier report in Section 43.61(b) and the quarterly report of switched resellers affiliated with foreign telecommunications entities in Section 43.61(c). The Commission also retained the requirement from the current Section 43.61(a) traffic and revenue report that filing entities report their international message telephone service (IMTS) and international private line services on a for each overseas route they serve. The Commission also retained the current requirement in Section 43.61(a) that filing entities report their IMTS resale (i.e., where an entity purchases IMTS calls from another provider and resells them to its customers) on a world-total basis.

The First Report and Order simplified the annual Section 43.61(a) report by amending subpart (a) of the rule to eliminate the current requirement that filing entities separately report IMTS and private line traffic between the conterminous 48 states and offshore U.S. points such as Guam and the U.S. Virgin Islands and traffic between such offshore U.S. points and foreign points. The Commission did not amend subparts (1), (2), or (3) of Section 43.61(a).

OMB Control No.: 3060-0169.

OMB Approval Date: October 28, 2011.

Expiration Date: October 31, 2014.

Title: Section 43.51, Reports and Records of Communications Common Carriers and Affiliates.

Form No.: N/A.

Type of Review: Revision of a currently approved collection.

Respondents: Business or other for-profit entities.

Number of Responses/Respondents: 55 respondents and 1,210 responses.

Estimated Time per Response: 6 hours.

Obligation To Respond: Required to obtain or retain benefits. The statutory authority for this collection is contained in sections: 1-4, 10, 11, 201-205, 211, 218, 220, 226, 303(g), 303(r) and 332 of the Communications Act of 1934, as amended, 47 U.S.C. 151, 154, 160, 161, 201, 205, 211, 218, 220, 226, 303(g), 303(r) and 332.

Total Annual Burden: 5,047 hours.

Total Annual Cost: None.

Nature and Extent of Confidentiality: In general there is no need for confidentiality with this collection of information.

Needs and Uses: On May 13, 2011, the Federal Communications Commission released a First Report and Order and Further Notice of Proposed Rulemaking (FCC 11-76) in Reporting Requirements for U.S. Providers of International Telecommunications Services, Amendment of Part 43 of the Commission's Rules, IB Docket No. 04-112 (rel. May 13, 2011) (Part 43 Review Order). In the First Report and Order portion of the Part 43 Review Order (First Report and Order), the Commission removed section 43.53 as no longer being required in the public interest. It did not alter section 43.51.

OMB Control No.: 3060-0572.

OMB Approval Date: October 28, 2011.

Expiration Date: October 31, 2014.

Title: International Circuit Status Reports, 47 CFR 43.82.

Form No.: N/A.

Type of Review: Revision of a currently approved collection.

Respondents: Business or other for-profit entities.

Number of Responses and Respondents: 75 respondents and 75 responses.

Estimated Time per Response: 1 hour-50 hours.

Obligation To Respond: Required to obtain or retain benefits. The Commission has authority for this information collection pursuant to the Communications Act of 1934 Sections 4, 48, 48 Stat. 1066, as amended, 47 U.S.C. 154 unless otherwise noted. Interpret or apply Sections 211, 219, 48 Stat. 1073, 1077, as amended; 47 U.S.C. 211, 219 and 220.

Total Annual Burden: 736 hours.

Total Annual Cost: None.

Nature and Extent of Confidentiality: In general there is no need for confidentiality with this collection of information.

Needs and Uses: On May 12, 2011, the Federal Communications Commission adopted a First Report and Order and Further Notice of Proposed Rulemaking (FCC 11-76) in Reporting Requirements for U.S. Providers of International Telecommunications Services, Amendment of Part 43 of the Commission's Rules, IB Docket No. 04-112 (rel. May 13, 2011). In the First Report and Order portion of that document (First Report and Order), the Commission amended the international reporting requirements in Section 43.82 that requires carriers annually to report the status of the international transmission circuits they owned or leased on December 31st of the preceding year. In the First Report and Order, the Commission also eliminated the circuit-addition report in Section 63.23(e) of the Commission's rules.

In the First Report and Order, the Commission retained the annual circuit-status report contained in Section 43.82, but eliminated the requirement that filing entities separately report circuits between the conterminous 48 states and offshore U.S. points such as Guam and the U.S. Virgin Islands and circuits between such offshore U.S. points and foreign points.

In the First Report and Order, the Commission also removed the requirement that filing entities file the circuit-addition report in section 63.23(e) of the rules. The Commission found that the section 43.82 annual circuit-status report provides enough information so that the circuit-addition report is no longer necessary. Section 63.23(e) required carriers that have been certified to resell international private lines for the provision of telecommunications services to file each year the number of private line circuits they added and the service for which they were used. The Commission required this report because such service provider did not file the annual circuit-status report. The underlying carriers that provide the private lines that the resellers are using are required to report those circuits in their annual circuit-status report. As a result, we have a record that the circuits are used and do not need for the resellers also to report the same circuits.

Federal Communications Commission.
Marlene H. Dortch,
Secretary, Office of the Secretary, Office of Managing Director.

[FR Doc. 2012-9591 Filed 4-19-12; 8:45 am]

BILLING CODE 6712-01-P